DEPARTMENT OF ENERGY

Federal Energy Regulatory Commission

Docket No. RP00-30-000

ANR Pipeline Company; Notice of Technical Conference

January 11, 2000.

In the Commission's order issued on November 23, 1999, the Commission stated that it would institute further proceedings, such as a technical conference, after it had an opportunity to evaluate ANR Pipeline Company's supplemental information concerning its proposed new hourly flow transportation services and the parties' comments on such information.

Take notice that a technical conference will be held on Thursday, January 27, 2000, at 10:00 a.m., in a room to be designated at the offices of the Federal Energy Regulatory Commission, 888 First Street, NE, Washington, D.C. 20426.

All interested parties and Staff are permitted to attend.

Linwood A. Watson, Jr.,
Acting Secretary.

[FR Doc. 00-1012 Filed 1-14-00; 8:45 am]

BILLING CODE 6717-01-M